DEPARTMENT OF THE INTERIOR

Bureau of Land Management

[CACA 048649, LLCAD06000, L51010000.FX0000, LVRWB09B2490]

Notice of Availability of the Final Environmental Impact Statement for the Desert Sunlight Holdings, LLC, Desert Sunlight Solar Farm and Proposed California Desert Conservation Area Plan Amendment

AGENCY: Bureau of Land Management, Interior.

ACTION: Notice of Availability.

SUMMARY: In accordance with the National Environmental Policy Act of 1969, as amended (NEPA), and the Federal Land Policy and Management Act of 1976, as amended (FLPMA), the Bureau of Land Management (BLM) has prepared a Proposed California Desert Conservation Area (CDCA) Plan Amendment/Final Environmental Impact Statement (EIS) for the Desert Sunlight Solar Farm (DSSF) project and by this notice is announcing its availability.

DATES: The BLM planning regulations state that any person who meets the conditions as described in the regulations may protest the BLM's Proposed CDCA Plan Amendment/Final EIS. A person who meets the conditions and files a protest must file the protest within 30 days of the date that the Environmental Protection Agency (EPA) publishes its notice in the Federal Register. The protest procedures are described in the “Dear Reader” letter accompanying the Proposed Plan Amendment/Final EIS.

ADDRESSES: Copies of the DSSF Proposed CDCA Plan Amendment/Final EIS have been sent to affected Federal, state, and local government agencies and to other stakeholders. Copies are available for public inspection at the Palms Springs South Coast Field Office, 1201 Bird Center Drive, Palm Springs, California 92262. Interested persons may also review the document at the following Web site: http://www.blm.gov/ca/st/en/fo/palmsprings/Solar_Projects/Desert_Sunlight.html. All protests must be in writing and mailed to one of the following addresses:

Regular Mail: BLM Director (210), Attention: Brenda Williams, P.O. Box 71383, Washington, DC 20024-1383;

Overnight Mail: BLM Director (210), Attention: Brenda Williams, 20 M Street, S.E., Room 2134LM, Washington, DC 20003.

FOR FURTHER INFORMATION CONTACT: For further information contact Allison Shaffer, BLM Project Manager, telephone (760) 833-7100; address (see above); or e-mail CAPSSolarFirstSolarDesertSunlight@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Desert Sunlight Holdings, LLC has submitted a right of way (ROW) application to the BLM to construct the proposed DSSF which includes a 550-megawatt (MW) solar photovoltaic (PV) facility and associated 220- kilovolt (kV) interconnection line (gen-tie line), and to facilitate the construction and operation by Southern California Edison (SCE) of the new 500/220-kV Red Bluff Substation, where the project would interconnect with the SCE regional transmission system. The total project footprint consists of approximately 4,165 acres of BLM-managed lands with a proposed ROW encompassing approximately 4,317 acres. The power generation site would consist of several components: A main generation area which includes PV arrays, combining switchgear, overhead lines, and access corridors; an operations and maintenance facility; a solar energy visitor center; an on-site substation; and site security and fencing. The gen-tie line ROW from the project to the proposed Red Bluff Substation would cover 256 acres with a 12-mile long, 160-foot wide corridor. The gen-tie line would transmit power to SCE's existing Devers-Palo Verde 1 (DPV1) 500-kV transmission line.

The Red Bluff Substation would consist of a 500/220-kV substation on approximately 76 acres, with an additional 73 acres for related features including access roads and drainage control. Substation features would include: connection of the project transmission line into the substation; transmission lines to connect the substation to the DPV1 line; modification of DPV1 towers near the substation; construction of an electric distribution line for substation light and power; and installation of telecommunications facilities.

The project site is located approximately 6 miles north of Interstate 10 and the rural community of Desert Center in Riverside County. The project area is within 2 miles of Joshua Tree National Park.

The BLM's purpose and need for the DSSF project is to respond to an application for a ROW grant to construct, operate, maintain, and decommission a solar photovoltaic facility on public lands in compliance with FLPMA, BLM ROW regulations, and other applicable Federal laws. The BLM will decide whether to approve, approve with modification, or deny the ROW for the proposed DSSF project. The BLM will also consider amending the CDCA Plan in this analysis. The CDCA Plan (1980, as amended), while recognizing the potential compatibility of solar generation facilities on public lands, requires that all sites associated with power generation or transmission not identified in that plan be considered through the plan amendment process. If the BLM decides to grant a ROW, the BLM would also amend the CDCA Plan as required.

In the Final EIS, the proposed action is to authorize the DSSF project and approve a CDCA Plan amendment in response to the application received from Desert Sunlight Holdings, LLC. The BLM's preferred alternative is the proposed action, which consists of the power generation site (Solar Farm Layout B), Gen-Tie Line GT-A-1 (which parallels Kaiser Road), Substation A, and Access Road 2, aggregating 4,165 acres of permanent ground disturbance. Other alternatives to authorizing the proposed DSSF project include: (1) Authorize the Solar Farm Layout B, Gen-Tie Line GT-B-2, and Red Bluff Substation B, aggregating 4,100 acres of permanent ground disturbance; and (2) authorize a reduced footprint alternative with a reduced output including Solar Farm Layout C (413 MW), Gen-Tie Line GT-A-2, Red Bluff Substation A, and Access Road 1, aggregating 3,292 acres of permanent ground disturbance. Additionally, the Final EIS analyzes two no project alternatives: (1) Deny the project but amend the CDCA Plan to allow other solar energy power generation projects on the project site; and (2) deny the project and amend the CDCA Plan to prohibit solar energy projects on the project site. As required under NEPA, the Final EIS analyzes a no action alternative (no ROW grant and no CDCA Plan amendment).

The Final EIS evaluates the potential impacts of the proposed DSSF and CDCA Plan Amendment on air quality, biological resources, cultural resources, water resources, geological resources and hazards, land use, noise, paleontological resources, public health, socioeconomics, soils, traffic and transportation, visual resources, wilderness characteristics, and other resources.

A Notice of Availability for the DSSF Draft CDCA Plan Amendment/Draft EIS was published by the EPA in the Federal Register on August 27, 2010 (75 FR 52736). The formal 90-day comment period ended on November 26, 2010. Comments were considered and incorporated as appropriate into the Proposed CDCA Plan Amendment/Final EIS. Public comments resulted in the addition of clarifying text, but did not significantly change proposed land use plan decisions.

Instructions for filing a protest with the Director of the BLM regarding the DSSF project may be found in the “Dear Reader” letter of the Proposed CDCA Plan Amendment/Final EIS and at 43 CFR 1610.5-2. E-mail and faxed protests will not be accepted as valid protests unless the protesting party also provides the original letter by either regular or overnight mail postmarked by the close of the protest period. Under these conditions, the BLM will consider the e-mail or faxed protest as an advance copy and it will receive full consideration. If you wish to provide the BLM with such advance notification, please direct faxed protests to the attention of the BLM protest coordinator at 202-912-7212, and e-mails to Brenda_Hudgens-Williams@blm.gov. All protests, including the follow-up letter to e-mails or faxes, must be in writing and mailed to the appropriate address, as set forth in the ADDRESSES section above.

Before including your phone number, e-mail address, or other personal identifying information in your protest, you should be aware that your entire protest-including your personal identifying information-may be made publicly available at any time. While you can ask us in your protest to withhold your personal identifying information from public review, we cannot guarantee that we will be able to do so.

Authority: 40 CFR 1506.6 and 1506.10; 43 CFR 1610.2 and1610.5.

Thomas Pogacnik,
Deputy State Director, California.

[FR Doc. 2011-9076 Filed 4-14-11; 8:45 am]

BILLING CODE 4310-40-P